DEPARTMENT OF THE INTERIOR

Office of the Secretary

[ONRR-2012-0003 DS63602000 DR2000000.PX8000 167D0102R2]

U.S. Extractive Industries Transparency Initiative Advisory Committee Request for Nominees

AGENCY: Office of Natural Resources Revenue, Interior.

ACTION: Notice.

SUMMARY: The Department of the Interior (Interior) is seeking nominations for individuals to be Committee members or alternates on the U.S. Extractive Industries Transparency Initiative Advisory Committee (Committee). We seek nominees who can represent stakeholder constituencies from government, civil society, and industry so that we can fill current vacancies and create a roster of candidates in case future vacancies occur.

DATES: Submit nominations by December 31, 2015.

ADDRESSES: You may submit nominations by any of the following methods:

• Mail or hand-carry nominations to Ms. Rosita Compton Christian; Department of the Interior, 1849 C Street NW., MS 4211, Washington, DC 20240.

• Email nominations to USEITI@ios.doi.gov.

FOR FURTHER INFORMATION CONTACT: Rosita Compton Christian at (202) 208-0272 or (202) 513-0597; fax (202) 513-0682; email Rosita.ComptonChristian@onrr.gov or USEITI@ios.doi.gov; or via mail at the Department of the Interior; 1849 C Street NW., MS 4211; Washington, DC 20240.

SUPPLEMENTARY INFORMATION: Interior established the Committee on July 26, 2012, in accordance with the provisions of the Federal Advisory Committee Act (FACA), as amended (5 U.S.C. App.2), and with the concurrence of the General Services Administration. The Committee serves as the U.S. Extractive Industries Transparency Initiative Multi-Stakeholder Group and advises the Secretary of the Interior on design and implementation of the initiative.

The Committee does the following:

• Oversees the U.S. implementation of the Extractive Industries Transparency Initiative (EITI), a global standard for governments to publicly disclose revenues received from oil, gas, and mining assets belonging to the government, with parallel public disclosure by companies of payments to the government (such as royalties, rents, bonuses, taxes, or other payments)

• Develops and recommends to the Secretary a fully-costed work plan, containing measurable targets and a timetable for implementation and incorporating an assessment of capacity constraints; this plan will be developed in consultation with key EITI stakeholders and published upon completion

• Provides opportunities for collaboration and consultation among stakeholders

• Advises the Secretary and posts for consideration by other stakeholders proposals for conducting long-term oversight and other activities necessary to achieve and maintain EITI-compliant status

The Committee consists of representatives from three stakeholder sectors. The sectors are as follows:

• Industry, including non-Federal representatives from the extractive industry-including oil, gas, and mining companies and industry-related trade associations

• Civil society, including organizations with an interest in extractive industries, transparency, and government oversight; members of the public; and public and/or private investors

• Government, including Federal, State, local, and Tribal governments and individual Indian mineral owners

In addition to honoring the EITI principle of self-selection within the stakeholder sector, we will consider the following criteria when making final selections:

• Understanding of and commitment to the EITI process

• Ability to collaborate and operate in a multi-stakeholder setting

• Access to and support from a relevant stakeholder constituency

• Basic understanding of the extractive industry and/or revenue collection or willingness to be educated on such matters

Nominations should include a resume providing relevant contact information and an adequate description of the nominee's qualifications, including information that would enable the Department of the Interior to make an informed decision regarding meeting the membership requirements for the Committee and to permit the Department of the Interior to contact a potential member.

Parties are strongly encouraged to work with and within stakeholder sectors (including industry, civil society, and government sectors, as the EITI process defines) to jointly consider and submit nominations that, overall, reflect the diversity and breadth of their sector. Nominees are strongly encouraged to include supporting letters from constituents, trade associations, alliances, and/or other organizations that indicate support by a meaningful constituency for the nominee.

Individuals who are Federally registered lobbyists are ineligible to serve on FACA and non-FACA boards, committees, or councils in an individual capacity. The term “individual capacity” refers to individuals who are appointed to exercise their own individual best judgment on behalf of the government, such as when they are designated Special Government Employees, rather than being appointed to represent a particular interest.

The Committee will meet quarterly or at the request of the Designated Federal Officer. Non-Federal members of the Committee will serve without compensation. However, we may pay the travel and per diem expenses of Committee members, if appropriate, under the Federal Travel Regulations.

To learn more about USEITI please visit the official Web site at www.doi.gov/eiti.

Dated: October 14, 2015.
Paul A. Mussenden,
Deputy Assistant Secretary—Natural Resources Revenue Management.

[FR Doc. 2015-27095 Filed 10-22-15; 8:45 am]

BILLING CODE 4335-30-P